DEPARTMENT OF TRANSPORTATION

Pipeline and Hazardous Materials Safety Administration

Notice of Application for Special Permits

AGENCY: Office of Hazardous Materials Safety, Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 28, 2013.

ADDRESSES: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on September 19, 2013.
Donald Burger,
Chief, General Approvals and Permits.

Application No. | Docket No. | Applicant | Regulation(s) affected | Nature of special permits thereof
NEW SPECIAL PERMITS
15892-N |  | Department of Energy, Washington, DC | 49 CFR 173.302a | To authorize the transportation in commerce of certain radiation detectors containing methane, which are constructed of aluminum and stainless steel. (mode 1)
15954-N |  | Rooney Oilfield Services, Odessa, TX | 49 CFR 173.202, 173.203, 173.241, 173.242 and 173.243 | To authorize the manufacture, mark, and sale of non-UN standard containers that are manifolded together within a frame and securely mounted on a truck chassis for transportation by motor vehicle. (mode 1)
15962-N |  | U.S. Department of Defense (DOD) Scott AFB, IL | 49 CFR 171.22(e) and 173.62 | To authorize the transportation in commerce of certain Division 1.2 explosives in alternative packaging. (modes 1, 2, 3, 4)
15963-N |  | Jack Harter Helicopters, Inc., Lihue, HI | 49 CFR 49 CFR Table § 172.101, Column(9B), § 172.204(c)(3), § 173.27(b)(2) § 175.30(a)(1) § 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (modes 1, 4)
15964-N |  | ICL Performance Products LP, St. Louis, MO | 49 CFR 180.605 | To authorize the one-time transportation in commerce of an ISO tank without the required hydrostatic pressure being performed after repair. (mode 1)
15965-N |  | Korean Air, Los Angeles, CA | 49 CFR 172.101 Column (9B), 172.204(c)(3), 173.27, and 175.30(a)(1) | To authorize the one-time transportation in commerce of certain explosives that are forbidden for transportation by cargo only aircraft. (mode 4)
15967-N |  | Chart Industries, New Prague, MN | 49 CFR 173.315 | To authorize the manufacture, mark and sale of non-DOT specification tanks cars similar to DOT113C120W for the transportation in commerce of certain refrigerated liquids. (mode 2)
15971-N |  | National Aeronautics and Space Administration (NASA), Houston, TX | 49 CFR 173.301(a)(1), 173.301(a)(2), 173.301(f)(1, 173.302(a) and 173.302a(a) | To authorize the transportation in commerce of non-DOT specification pressure receptacles containing nitrogen, compressed. (modes 1, 2, 3, 4)
15972-N |  | Heil Trailer International, Co., Athens, TN | 49 CFR 178.345-2, 178.346-2, 178.347-2, 178.348-2 and 178.345-3 | To authorize the manufacture, marking, sale and use of non-DOT specification cargo tanks meeting all requirements for DOT 400 series cargo tanks except for the use of UNS S32101 (LDX 2101) as a material of construction and the head and shell thicknesses are less than required. (mode 1)
15984-N |  | Alliant Techsystems Operations LLC, Independence, MI | 49 CFR § 172.201(a)(1), Subpart F of Part 172, 174.59 and 174.61(a) | To authorize the transportation in commerce of certain empty packagings containing residues of Class 1 smokeless powders without complete shipping papers and placarding. (modes 1, 2)
15987-N |  | TG Missouri Corp., Perryville, MO | 49 CFR 173.301(a)(1), 173.302(a)(1), 178.65(f)(2) and 178.65(i)(3) | To authorize the manufacture, mark, sale and use of non-DOT specification cylinders for use as components of automotive vehicle safety systems. (modes 1, 2, 3, 4, 5)

[FR Doc. 2013-23461 Filed 9-25-13; 8:45 am]

BILLING CODE 4909-60-P